DEPARTMENT OF HEALTH AND HUMAN SERVICES

National Institutes of Health

National Institute of General Medical Sciences; Amended Notice of Meeting

Notice is hereby given of a change in the meeting of the National Advisory General Medical Sciences Council, May 18, 2023, 09:30 a.m. to May 18, 2023, 04:30 p.m., National Institutes of health, Natcher Building, Conference Rooms E1 & E2, 45 Center Drive, Bethesda, MD 20892 which was published in the Federal Register on March 23, 2023, FR Doc 2023-05968, 88 FR 17588.

The link to the “contact us form” was inadvertently not published. Individuals who plan to attend and need special assistance, such as sign language interpretation or other reasonable accommodations, should submit a request at least 5 days prior to the meeting using the following link: https://www.nigms.nih.gov/Pages/ContactUs.aspx. The meeting is partially Closed to the public.

Dated: April 17, 2023.
Miguelina Perez,
Program Analyst, Office of Federal Advisory Committee Policy.

[FR Doc. 2023-08408 Filed 4-20-23; 8:45 am]

BILLING CODE 4140-01-P